DEPARTMENT OF AGRICULTURE

Food and Nutrition Service

Agency Information Collection Activities: Proposed Collection; Comment Request; Form FNS-259, Food Stamp Mail Issuance Report

AGENCY: Food and Nutrition Service, USDA.

ACTION: Notice.

SUMMARY: In accordance with the Paperwork Reduction Act of 1995, this notice invites the general public and other public agencies to comment on a proposed revision of a currently approved information collection contained in form FNS-259, Food Stamp Mail Issuance Report.

DATES: Written comments must be submitted on or before August 12, 2002.

ADDRESSES: Send comments and requests for copies of this information collection to: Branch Chief, Electronic Benefit Transfer Branch, Benefit Redemption Division, Food and Nutrition Service, U.S. Department of Agriculture, 3101 Park Center Drive, Alexandria, VA 22302.

Comments are invited on: (a) Whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including through the use of appropriate automated, electronic, mechanical, or other technological collection techniques or other forms of information technology.

All responses to this notice will be summarized and included in the request for Office of Management and Budget (OMB) approval. All comments will also become a matter of public record.

FOR FURTHER INFORMATION CONTACT: Electronic Benefits Transfer Branch, (703) 305-2517.

SUPPLEMENTARY INFORMATION: Title: Food Stamp Mail Issuance Report.

OMB Number: 0584-0015.

Form Number: FNS-259.

Expiration Date: 06/30/2002.

Type of Request: Revision of a currently approved collection.

Abstract: Section 7(d) of the Food Stamp Act of 1977, as amended, (7 U.S.C. 2016(d)) requires that State agencies determine and monitor food stamp coupon inventories. Section 7(f) requires that the States are strictly liable for coupons losses except when the coupons are sent through the mail. In that case, the losses are to be determined by the regulations promulgated by the Secretary of Agriculture (7 U.S.C. 2016(f)). The Food Stamp Program regulations at 7 CFR 274.4(b)(3) require State agencies to report mail issuance, replacements, and returns on the FNS-259, Food Stamp Mail Issuance Report. Data from the report is then used, as explained in 7 CFR 276.2(b)(4), for calculation of the State agency's liability for mail losses. The proposed revision to the information collection burden reflects the reduction in respondents because of the change from coupon issuance to electronic benefit delivery systems.

Affected Public: State and local government employees and recipients.

Estimated Number of Respondents: 200.

Estimated Number of Responses per Respondent: 4.

Estimated Time per Response: 5 minutes.

Estimated Total Annual Burden: 67 hours annually.

Dated: May 30, 2002.
Eric M. Bost,
Under Secretary, Food, Nutrition, and Consumer Services.

[FR Doc. 02-14679 Filed 6-10-02; 8:45 am]

BILLING CODE 3410-30-P